DEPARTMENT OF ENERGY

10 CFR Parts 430 and 431

[EERE-2018-BT-STD-0018]

Energy Conservation Program: Energy Conservation Standards for Residential Furnaces and Commercial Water Heaters

AGENCY: Office of Energy Efficiency and Renewable Energy, Department of Energy.

ACTION: Notice of petition for rulemaking; extension of public comment period.

SUMMARY: On November 1, 2018, the U.S. Department of Energy (“DOE”) published in the Federal Register a notice of petition for rulemaking and request for comment regarding whether DOE should issue an interpretive rule stating that DOE's proposed energy conservation standards for residential furnaces and commercial water heaters would result in the unavailability of “performance characteristics” within the meaning of the Energy Policy and Conservation Act of 1975, as amended, and withdraw its proposals for amended standards for those products/equipment based upon such findings. The comment period in that notice was set to close on January 30, 2019. In the intervening period, DOE received two requests from interested parties seeking an extension of the comment period in order to develop additional data relevant to the petition. This notice announces an extension of the public comment period for submitting comments in response to that notice of petition for rulemaking. The comment period is hereby extended by 30 days to March 1, 2019.

DATES: The comment period for the notice of petition for rulemaking and request for comment published on November 1, 2018 (83 FR 54883) is extended. Written comments and information are requested and will be accepted on or before March 1, 2019.

ADDRESSES: Interested persons are encouraged to submit comments, identified by “Energy Conservation Standards for Residential Furnaces and Commercial Water Heaters” and Docket No. EERE-2018-BT-STD-0018, by any of the following methods:

1. Federal eRulemaking Portal: http://www.regulations.gov. Follow the instructions for submitting comments.

2. Email: ResFurnaceCommWaterHeater2018STD0018@ee.doe.gov. Include Docket No. EERE-2018-BT-STD-0018 in the subject line of the message.

3. Postal Mail: Appliance and Equipment Standards Program, U.S. Department of Energy, Building Technologies Office, Mailstop EE-5B, 1000 Independence Avenue SW, Washington, DC, 20585-0121. If possible, please submit all items on a compact disc (“CD”), in which case it is not necessary to include printed copies.

4. Hand Delivery/Courier: Appliance and Equipment Standards Program, U.S. Department of Energy, Building Technologies Office, 950 L'Enfant Plaza SW, 6th Floor, Washington, DC, 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available. The docket web page can be found at https://www.regulations.gov/docket?D=EERE-2018-BT-STD-0018. The docket web page contains instructions on how to access all documents, including public comments, in the docket.

FOR FURTHER INFORMATION CONTACT: Mr. Eric Stas, U.S. Department of Energy, Office of the General Counsel, GC-33, 1000 Independence Avenue SW, Washington, DC 20585-0121. Telephone: (202) 586-5827. Email: Eric.Stas@hq.doe.gov.

SUPPLEMENTARY INFORMATION: On November 1, 2018, the U.S. Department of Energy (“DOE”) published in the Federal Register a notice of petition for rulemaking and request for comment regarding whether DOE should issue an interpretive rule stating that DOE's proposed energy conservation standards for residential furnaces and commercial water heaters would result in the unavailability of “performance characteristics” within the meaning of the Energy Policy and Conservation Act of 1975 (EPCA), as amended (42 U.S.C. 6291 et seq.) and withdraw its proposals for amended standards for such products/equipment based upon such findings (the “notice of petition”). 83 FR 54883. (The notice of petition can be found at https://www.regulations.gov/document?D=EERE-2018-BT-STD-0018-0002.) The document provided for submitting written comments and information by January 30, 2019. In the intervening period, DOE has received a request from the Natural Resources Defense Council; Earthjustice; Appliance Standards Awareness Project; American Council for an Energy-Efficient Economy; Consumer Federation of America; Alliance to Save Energy; National Consumer Law Center; and Northeast Energy Efficiency Partnerships (jointly the “Joint Commenters”) dated January 18, 2019, to provide an additional 30 days to submit comments pertaining to the notice of petition. DOE also received a separate request from the Northwest Energy Efficiency Alliance (NEEA) dated January 18, 2019, which similarly requested a 30-day comment period extension until March 1, 2019. These requests can be found at https://www.regulations.gov/document?D=EERE-2018-BT-STD-0018-0008 and https://www.regulations.gov/document?D=EERE-2018-STD-0018-0009, respectively. Both requests stated that additional time is needed to develop data and information relevant to consideration of the petition, and NEEA specifically referenced a market research study they had commissioned which is nearing completion.

An extension of the comment period would allow additional time for the Joint Commenters, NEEA, and other interested parties to consider the issues presented in the notice of petition, gather any additional data and information, and submit comments to DOE.

In light of the requests from the Joint Commenters and NEEA, DOE has determined that a 30-day extension of the public comment period is appropriate. Accordingly, the comment period is extended to March 1, 2019.

Signed in Washington, DC, on January 23, 2019.
Daniel R Simmons,
Assistant Secretary, Energy Efficiency and Renewable Energy.

[FR Doc. 2019-00257 Filed 1-28-19; 8:45 am]

BILLING CODE 6450-01-P